DEPARTMENT OF HOMELAND SECURITY

Federal Emergency Management Agency

[Docket ID FEMA-2016-0007]

Public Assistance Program Minimum Standards; Reopening of Comment Period

AGENCY: Federal Emergency Management Agency, DHS.

ACTION: Notice; reopening of comment period.

SUMMARY: The Federal Emergency Management Agency (FEMA) is issuing this notice to advise the public that FEMA is reopening the comment period for Docket ID FEMA-2016-0007. The initial notice of availability of FEMA's proposed policy regarding minimum standards for Public Assistance restoration of damaged facility projects published in the April 21, 2016 Federal Register, and requested public comments no later than May 23, 2016. FEMA has reopened the comment period for submitting public comments to July 8, 2016.

DATES: The comment period for the notice published on April 21, 2016 (81 FR 23503), is reopened. Comments must be received by July 8, 2016.

ADDRESSES: Comments must be identified by docket ID FEMA-2016-0007 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, 8NE, 500 C Street SW., Washington, DC 20472-3100.

FOR FURTHER INFORMATION CONTACT: William Roche, Director, Public Assistance Division, Federal Emergency Management Agency, 500 C Street SW., Washington, DC 20472, 202-646-3834.

SUPPLEMENTARY INFORMATION: The Federal Emergency Management Agency (FEMA) is issuing this notice to advise the public that FEMA is reopening the comment period for Docket ID FEMA-2016-0007. The initial notice of availability of FEMA's proposed policy regarding minimum standards for Public Assistance restoration of damaged facility projects published in the April 21, 2016 Federal Register (81 FR 23503), and requested public comments no later than May 23, 2016.

Interested parties have requested additional time to review and comment on the proposed policy. FEMA has reopened the comment period for submitting public comments to July 8, 2016.

Authority: 42 U.S.C. 5165a, 5172; 44 CFR 206.226, 206.400.

David Bibo,
Deputy Associate Administrator, Office of Policy and Program Analysis, Federal Emergency Management Agency.

[FR Doc. 2016-13546 Filed 6-7-16; 8:45 am]

BILLING CODE 9111-23-P